NUCLEAR REGULATORY COMMISSION

[Docket Nos. 50-250 and 50-251]

Florida Power and Light Company; Notice of Issuance of Amendment to Renewed Facility Operating License and Final Determination of No Significant Hazards Consideration (TAC Nos. MD9229 and MD9330)

The U.S. Nuclear Regulatory Commission (NRC or Commission) has issued Amendment Nos. 238 and 233 to Facility Operating License Nos. DPR-31 and DPR-41, respectively, issued to Florida Power and Light Company (the licensee), which revised the Technical Specifications (TSs) for operation of the Turkey Point Nuclear Plant, Units 3 and 4, located in Miami-Dade County, Florida. The amendment was effective as of the date of its issuance.

These amendments remove the notes associated with License Amendment No. 221 regarding the inoperability of the Unit 4 Rod Position Indication (RPI) system for control rod F-8 in Shutdown Bank B, and the notes associated with Amendment No. 230 regarding the inoperability of the Unit 3 RPI system for control rod M-6 in Control Bank C. The RPI system for control rod F-8 was repaired during the Unit 4 Cycle 22 refueling outage in spring 2005; thus, the associated TS License Amendment No. 221 revisions are no longer required. Similarly, the RPI system for control rod M-6 was repaired in June 2007; thus, the associated TS License Amendment No. 230 revisions are no longer required.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment and Proposed No Significant Hazards Consideration Determination and Opportunity for Hearing in connection with this action was published in the Federal Register on July 29, 2008 (73 FR 43956). A request for a hearing was filed on August 18, 2008, by Thomas Saporito, President of Saporito Energy Consultants.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the Safety Evaluation related to this action. Accordingly, as described above, the amendment has been issued and made immediately effective and any hearing will be held after issuance.

The Commission has determined that this amendment satisfies the criteria for categorical exclusion in accordance with 10 CFR 51.22. Therefore, pursuant to 10 CFR 51.22(b), no environmental impact statement or environmental assessment need be prepared for this amendment.

For further details with respect to this action, see the application for amendment dated September 5, 2007, as supplemented by letter dated September 8, 2008, which are available for public inspection at the NRC's Public Document Room (PDR), located at One White Flint North, Public File Area O1 F21, 11555 Rockville Pike (first floor), Rockville, Maryland. Publicly available records will be accessible electronically from the Agencywide Documents Access and Management System's (ADAMS) Public Electronic Reading Room on the Internet at the NRC Web site, http://www.nrc.gov/reading-rm/adams.html. Persons who do not have access to ADAMS or who encounter problems in accessing the documents located in ADAMS should contact the NRC PDR Reference staff by telephone at 1-800-397-4209, 301-415-4737, or by e-mail to pdr.resource@nrc.gov.

Dated at Rockville, Maryland, this 30th day of September, 2008.
For the Nuclear Regulatory Commission.
Brenda L. Mozafari,
Senior Project Manager, Plant Licensing Branch II-2, Division of Operating Reactor Licensing, Office of Nuclear Reactor Regulation.

[FR Doc. E8-23945 Filed 10-8-08; 8:45 am]

BILLING CODE 7590-01-P